ENVIRONMENTAL PROTECTION AGENCY

40 CFR Part 52

[EPA-R04-OAR-2020-0515; FRL-10024-72-Region 4]

Air Plan Approval; North Carolina; Revision to Approved Motor Vehicle Emissions Budgets

AGENCY: Environmental Protection Agency (EPA).

ACTION: Proposed rule.

SUMMARY: The Environmental Protection Agency (EPA) is proposing to approve a revision to the North Carolina State Implementation Plan (SIP), submitted to EPA on July 16, 2020, by the State of North Carolina, through the North Carolina Department of Environment and Natural Resources, Division of Air Quality (NCDAQ) for the purpose of allocating a portion of the available 2026 safety margin in the 2008 8-hour Ozone Maintenance Plan to the 2026 nitrogen oxides (NOX) and volatile organic compounds (VOC) motor vehicle emissions budgets (“MVEBs” or “budgets”) for the North Carolina portion of the Charlotte-Rock Hill, NC-SC bi-state Area (hereinafter referred to as the “North Carolina portion of the Charlotte Maintenance Area”) to account for uncertainty associated with the mobile emissions model and unanticipated growth in vehicle miles traveled for the North Carolina portion of the Charlotte Maintenance Area. This SIP revision also revises the 2026 MVEBs which are used for transportation conformity. NCDAQ's July 16, 2020 submission supplements the revised 2008 8-hour Ozone Maintenance Plan submitted by NCDAQ on July 25, 2018, and approved by EPA on September 11, 2019. EPA is proposing to approve North Carolina's July 16, 2020 SIP revision and deem the MVEBs adequate for transportation conformity purposes because they meet all the statutory and regulatory requirements.

DATES: Comments must be received on or before July 23, 2021.

ADDRESSES: Submit your comments, identified by Docket ID No. EPA-R04-OAR-2020-0515 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Dianna Myers, Air Regulatory Management Section, Air Planning and Implementation Branch, Air and Radiation Division, U.S. Environmental Protection Agency, Region 4, 61 Forsyth Street SW, Atlanta, Georgia 30303-8960. The telephone number is (404) 562-9207. Ms. Myers can also be reached via electronic mail at myers.dianna@epa.gov.

SUPPLEMENTARY INFORMATION:

I. What action is EPA proposing?

EPA is proposing to approve NCDAQ's July 16, 2020, SIP revision to allocate a portion of the available safety margin to revise the 2026 NOX and VOC budgets for the North Carolina portion of Charlotte 2008 8-hour Ozone Maintenance Area ¹ for transportation conformity purposes. NCDAQ requested approval of the July 16, 2020 SIP revision in order to account for unanticipated changes in the travel demand model, such as unanticipated growth in vehicle miles traveled, changes and uncertainty in vehicle mix assumptions, and uncertainty associated with mobile emissions modeling.

¹ The North Carolina portion of the Charlotte Maintenance Area for the 2008 ozone NAAQS is comprised of the following counties: Mecklenburg in its entirety and portions of Cabarrus, Gaston, Iredell, Lincoln, Rowan, and Union counties. See section II.B. for more detail.

If EPA finalizes this proposed approval, the revised 2026 budgets from NCDAQ's July 16, 2020, SIP revision will replace the existing budgets in the State's 2008 8-hour Ozone Maintenance Plan revision approved on September 11, 2019. See 84 FR 47889. If approved, these newly revised 2026 budgets must be used in future transportation conformity analyses for the Area according to the transportation conformity rule. See 40 CFR 93.118. Therefore, the September 11, 2019, approved budgets would no longer be applicable for transportation conformity purposes.

In the State's submission, all emissions inventories (on-road, point, area, and nonroad) from NCDAQ's September 11, 2019, SIP revision remain the same. The submission only allocates a portion of the available safety margin to the 2026 NOX and VOC MVEBs. Therefore, EPA is proposing to conclude that North Carolina's July 16, 2020, SIP revision continues to demonstrate maintenance for the Charlotte Maintenance Area.

II. What is the background for this action?

A. SIP Budgets and Transportation Conformity

Under the CAA, states are required to submit, at various times, control strategy SIP revisions and maintenance plans for nonattainment and maintenance areas for a given NAAQS. These emission control strategy SIP revisions (e.g., reasonable further progress and attainment demonstration SIP revisions) and maintenance plans include budgets of on-road mobile source emissions for criteria pollutants and/or their precursors to address pollution from cars, trucks, and other on-road vehicles. The MVEBs are the portion of the total allowable emissions that are allocated to on-road vehicle use that, together with emissions from other sources in the area, will provide for attainment or maintenance. The MVEBs serve as a ceiling on emissions from an area's planned transportation system.

Under section 176(c) of the CAA, transportation plans, transportation improvement programs (TIPs), and transportation projects must “conform” to (i.e., be consistent with) the SIP before they can be adopted or approved. Conformity to the SIP means that transportation activities will not cause new air quality violations, worsen existing air quality violations, or delay timely attainment of the NAAQS or an interim milestone. The transportation conformity regulations can be found at 40 CFR parts 51 and 93.

Before budgets can be used in conformity determinations, EPA must affirmatively find the budgets adequate. However, adequate budgets do not supersede approved budgets for the same CAA purpose. If the submitted SIP budgets are meant to replace budgets for the same CAA purpose and year(s) addressed by a previously approved SIP revision, as is the case with this SIP, EPA can approve the revised SIP and budgets and also affirm that the budgets are adequate at the same time. Once EPA approves the SIP with the submitted budgets, the revised budgets must be used by state and Federal agencies in determining whether transportation activities conform to the SIP as required by section 176(c) of the CAA. EPA's substantive criteria for determining the adequacy of budgets are set out in 40 CFR 93.118(e)(4).

B. Prior Approval of Budgets

Effective July 20, 2012, EPA designated the Charlotte-Rock Hill, NC-SC Area as Marginal nonattainment for the 2008 8-hour ozone national ambient air quality standard (hereinafter referred to as NAAQS or standard). The North Carolina portion of the Charlotte 2008 Maintenance Area includes Mecklenburg in its entirety and portions of Cabarrus, Gaston, Iredell, Lincoln, Rowan, and Union counties. The Charlotte Maintenance Area also includes a portion of York County located in Rock Hill, South Carolina. See 77 FR 30088. The North Carolina portion of the Charlotte Maintenance Area is comprised of three metropolitan planning organizations (MPOs): The Charlotte Regional Transportation Planning Organization (CRTPO) which covers Iredell, Mecklenburg, and Union counties; the Cabarrus-Rowan Metropolitan Planning Organization (CRMPO) which covers Cabarrus and Rowan counties; and the Gaston-Cleveland-Lincoln Metropolitan Planning Organization (GCLMPO) which covers Gaston, Cleveland, and Lincoln counties. Although Cleveland County is included in the GCLMPO planning boundary, it was not included in the North Carolina portion of the Charlotte Maintenance Area. Each MPO has its own budget referred to as a “sub-area budget.” The York County, South Carolina portion of this maintenance area has a separate MPO and budgets. The South Carolina portion of the maintenance area implements transportation conformity independent of the North Carolina portion.

EPA approved the redesignation request and maintenance plan for North Carolina's portion of the Charlotte 2008 8-hour ozone Area on July 28, 2015 (80 FR 44873) with 2014 and 2026 NOX and VOC sub-area MVEBs.² On August 17, 2015 (80 FR 49164), EPA approved North Carolina's section 110(l) noninterference demonstration requesting relaxation of the Federal Reid Vapor Pressure from 7.8 pounds per square inch (psi) to 9.0 psi and a revision to the 2026 NOX and VOC sub-area MVEBs for Mecklenburg and Gaston Counties only. See 80 FR 44868.

² There are currently six ozone monitors located throughout the North Carolina portion of the Charlotte Maintenance Area and one monitor located in York County, South Carolina. The current design value for the Charlotte Maintenance Area is 70 parts per billion.

Subsequently, on July 25, 2018, NCDAQ submitted a revision to the Charlotte 2008 8-hour ozone maintenance plan to update the emissions forecast and MVEBs for 2026 to account for the small increase in NOX and VOC emissions associated with the change in vehicle model year coverage due to changes in the state of North Carolina's inspection and maintenance (I/M) program. On September 11, 2019 (84 FR 47889), EPA approved NCDAQ's July 25, 2018 SIP revision related to North Carolina's I/M Program. The September 11, 2019, SIP approval updated the on-road mobile source inventory and revised the 2026 sub-area VOC and NOX budgets for Cabarrus and Rowan counties. The revised 2026 MVEBs became effective on October 11, 2019.

C. MOVES Emissions Model

The Motor Vehicle Emissions Simulator (MOVES) model is designed by EPA to estimate air pollution emissions from mobile sources. MOVES can be used to estimate exhaust and evaporative emissions as well as brake and tire wear emissions from all types of on-road vehicles for any part of the country, except California.³ MOVES2014 and its subsequent minor updates, MOVES2014a and MOVES2014b, added the capability to estimate exhaust and evaporative emissions from most types of nonroad equipment. North Carolina's July 16, 2020 SIP submittal contains mobile source emissions estimates using MOVES2014 with local inputs data to more accurately represent local vehicle fleets and emissions characteristics.⁴ See MOVES2014, MOVES2014a, and MOVES2014b Technical Guidance: Using MOVES to Prepare Emission Inventories for State Implementation Plans and Transportation Conformity, EPA-420-B-18-039, August 2018, available at https://nepis.epa.gov/Exe/ZyPURL.cgi?Dockey=P100V7EY.txt.

³ In California, a different on-road emissions model, EMFAC, is used for regulatory purposes instead of MOVES.

⁴ On January 7, 2021 (86 FR 1106), EPA announced the availability of the MOVES3 for official purposes outside of California. MOVES3 is the state of the science emission modeling system that incorporates the latest emissions data and estimates emissions from mobile sources at the national, county, and project level for criteria air pollutants, greenhouse gases, and air toxics. While MOVES3 is available for use in SIPs and transportation conformity analyses outside of California, states and local agencies that had completed a SIP revision with MOVES2014 at the time of the release of MOVES3 could continue to rely on MOVES2014 for that SIP submittal. NCDAQ completed and submitted the SIP revision that is the subject of this proposed action on July 16, 2020, before MOVES3 was released.

III. What is EPA's analysis of North Carolina's submittal?

EPA's analysis involves an emissions comparison between the current SIP-approved MVEBs and the MVEBs that North Carolina has requested EPA approve in the July 16, 2020 SIP submittal. Section III.A. provides information regarding the current SIP-approved MVEBs and inventories, while sections III.B. and III.C. contain information and analysis regarding the proposed revisions to the MVEBs and safety margin, respectively. Section III.D. contains EPA's proposed analysis of the adequacy of North Carolina's revised MVEBs pursuant to 40 CFR 93.118(e)(4).

As discussed further below, EPA's analysis of North Carolina's July 16, 2020 SIP submittal indicates that maintenance will continue to be demonstrated after allocation of a portion of the safety margin to the MVEBs because the total level of emissions from all source categories remains equal to or less than the attainment level of emissions. Thus, EPA is proposing to approve North Carolina's July 16, 2020 SIP submittal.

A. Maintenance Demonstration and Emissions Inventory

This section contains information regarding the previous and current SIP-approved MVEBs and inventories. The inventories are provided for illustrative purposes only, as in this action, EPA is not proposing any changes the inventories.⁵

⁵ As discussed above, if EPA approves NCDAQ's July 16, 2020 SIP submittal, all emissions inventories (on-road, point, area, and nonroad) from NCDAQ's September 11, 2019, SIP revision remain the same, while a portion of the safety margin will be allocated to the MVEBs.

As discussed above, EPA originally approved NCDAQ's 2008 8-hour ozone maintenance SIP for the North Carolina portion of the Charlotte Maintenance Area on July 28, 2015, with the following inventories for NOX and VOC emissions: Base year actual emissions inventories for 2014; projected, future, interim year inventories for 2015, 2018, and 2022; and projected final year emission inventory for 2026. On September 11, 2019 (84 FR 47889), EPA approved NCDAQ's July 25, 2018 SIP, which revised the MVEBs and the inventories; these remain the current SIP-approved MVEBs and inventories.

Maintenance for the Charlotte Maintenance Area is demonstrated when the emissions in the final year of the maintenance plan (“maintenance year”) are less than the baseline attainment year. In the current SIP-approved inventories, the baseline year is 2014 and the maintenance year is 2026. See 80 FR 29250. As shown in Table 1, for NOX, emissions for all years (interim years and maintenance year) are under the baseline of 130.18 tons per summer day (tons/day); in the maintenance year of 2026, emissions are projected to be 60.28 tons/day. Additionally, as shown in Table 2, for VOC, emissions for all years (interim years and maintenance year) are under the baseline of 113.12 tons/day; in the maintenance year of 2026, emissions are projected to be 95.99 tons/day. The downward trend in NOX and VOC emissions is shown in Table 3 below.

Table 1—Total Man-Made NOX Emissions for North Carolina Portion of the Charlotte Maintenance Area
[tons/day]
County | 2014 | 2015 | 2018 | 2022 | 2026
Cabarrus * | 11.49 | 10.73 | 6.78 | 5.44 | 4.44
Gaston * | 27.89 | 27.62 | 12.03 | 6.41 | 7.87
Iredell * | 6.86 | 6.49 | 5.41 | 4.68 | 4.16
Lincoln * | 4.36 | 4.71 | 6.41 | 4.29 | 2.34
Mecklenburg | 56.71 | 52.97 | 39.16 | 33.52 | 31.33
Rowan * | 11.74 | 11.31 | 8.28 | 7.01 | 6.10
Union * | 11.13 | 10.36 | 6.63 | 5.09 | 4.05
Total | 130.18 | 124.19 | 84.69 | 66.44 | 60.28
* Emissions for the portion of the county included in the maintenance area.

Table 2—Total Man-Made VOC Emissions for North Carolina Portion of the Charlotte Maintenance Area
[tons/day]
County | 2014 | 2015 | 2018 | 2022 | 2026
Cabarrus * | 11.50 | 11.27 | 9.51 | 9.23 | 9.02
Gaston * | 12.96 | 12.74 | 11.53 | 10.94 | 10.74
Iredell * | 6.33 | 6.22 | 5.29 | 5.11 | 4.97
Lincoln * | 6.55 | 6.47 | 4.81 | 4.66 | 4.51
Mecklenburg | 50.10 | 49.16 | 45.31 | 44.47 | 43.99
Rowan * | 12.59 | 12.38 | 12.47 | 12.19 | 12.32
Union * | 13.09 | 12.85 | 10.91 | 10.68 | 10.45
Total | 113.12 | 111.09 | 99.82 | 97.28 | 95.99
* Emissions for the portion of the county included in the maintenance area.

Table 3—Maintenance Demonstration for North Carolina Portion of the Charlotte Maintenance Area
Year | NOX (tons/summer day) | VOC (tons/summer day)
2014 | 130.18 | 113.12
2015 | 124.19 | 111.09
2018 | 84.69 | 99.82
2022 | 66.44 | 97.28
2026 | 60.28 | 95.99
Reduction in emissions from 2014 to 2026 | 69.90 | 17.13

The following table provides the NOX and VOC on-road mobile emissions inventory for the 2014 (base year) and 2026 (maintenance year) for the 2008 8-hour ozone NAAQS for the North Carolina portion of the Charlotte Maintenance Area. The emissions are expressed in tons/day and in kg/day because the MVEBs are expressed in kilograms per day kg/day. The MOVES2014 output emissions values were rounded to the nearest kg/day and were divided by 907.1847 to convert them to units of tons/day. The resulting values in tons/day were rounded to two decimal places.

Table 4—On-Road Mobile Source NOX and VOC Summer Day Emissions in 2014 and 2026 for the North Carolina Portion of the Charlotte Maintenance Area
County | 2014 NOX: tons/day | 2014 NOX: kg/day | 2014 VOC: tons/day | 2014 VOC: kg/day | 2026 NOX: tons/day | 2026 NOX: kg/day | 2026 VOC: tons/day | 2026 VOC: kg/day
Cabarrus * | 6.60 | 5,989 | 4.15 | 3,765 | 2.00 | 1,810 | 2.19 | 1,982
Gaston ** | 8.11 | 7,357 | 4.61 | 4,179 | 2.12 | 1,924 | 1.86 | 1,689
Iredell * | 3.36 | 3,045 | 1.95 | 1,768 | 1.00 | 903 | 0.88 | 801
Lincoln * | 3.00 | 2,723 | 1.91 | 1,737 | 0.83 | 757 | 0.86 | 779
Mecklenburg ** | 26.99 | 24,488 | 14.40 | 13,060 | 7.17 | 6,501 | 6.98 | 6,334
Rowan * | 6.42 | 5,825 | 3.76 | 3,408 | 1.73 | 1,571 | 1.53 | 1,389
Union * | 5.67 | 5,146 | 3.54 | 3,210 | 1.62 | 1,466 | 1.68 | 1,520
Total | 60.15 | 54,572 | 34.32 | 31,127 | 16.47 | 14,932 | 15.98 | 14,494
* Emissions for the portion of the county included in the maintenance area.
** The 2014 base year NOX and VOC emissions for Gaston and Mecklenburg counties have been revised slightly to correct a transcription error in the original maintenance plan.

A safety margin is the difference between the attainment level of emissions from all source categories (i.e., point, area, on-road and nonroad) (2014 in this case) and the projected level of emissions from all source categories in the maintenance year (2026 in this case). The State may choose to allocate some of the safety margin to the MVEBs, for transportation conformity purposes, so long as the total level of emissions from all source categories remains equal to or less than the attainment level of emissions. North Carolina previously chose to allocate a portion of its NOX and VOC safety margin to the MVEBs for the entire North Carolina portion of the Charlotte Maintenance Area for the year 2026. See 84 FR 22774 (May 20, 2019) and 84 FR 47889 (Sept. 11, 2019). The current SIP-approved safety margins, percent increase allocated to the 2026 NOX and VOC MVEBs from the safety margin for each county, and resulting subarea MVEBs in the North Carolina portion of the Charlotte Maintenance Area are listed in Tables 5 through 9 below.

Table 5—Current Safety Margins for North Carolina Portion of the Charlotte Maintenance Area
Year | NOX (tons/summer day) | VOC (tons/summer day)
2014 | N/A | N/A
2015 | −5.99 | −2.03
2018 | −45.49 | −13.30
2022 | −63.74 | −15.84
2026 | −66.60 | −13.92

Table 6—Current Percent Increase to the 2026 Mobile Vehicle Emissions Budget
County | 2026
Cabarrus | 25
Gaston | 20
Iredell | 22
Lincoln | 22
Mecklenburg | 17
Rowan | 25
Union | 20

Table 7—Cabarrus Rowan Metropolitan Planning Organization (CRMPO) MVEBs in 2014 and 2026
[kg/day] *
| 2014 NOX | 2014 VOC | 2026 NOX | 2026 VOC
Base On-road Emissions | 11,814 | 7,173 | 3,381 | 3,371
Safety margin allocated to MVEB |  |  | 846 | 843
Conformity MVEB | 11,814 | 7,173 | 4,227 | 4,214
* Includes the portion of Cabarrus and Rowan Counties in the maintenance area.

Table 8—Gaston-Cleveland-Lincoln Metropolitan Planning Organization (GCLMPO) MVEBs in 2014 and 2026
[kg/day] *
| 2014 NOX | 2014 VOC | 2026 NOX | 2026 VOC
Base On-road Emissions | 10,079 | 5,916 | 2,681 | 2,468
Safety margin allocated to MVEB |  |  | 551 | 510
Conformity MVEB | 10,079 | 5,916 | 3,232 | 2,978
* Includes the portion of Gaston and Lincoln counties in the maintenance area. Although Cleveland County is included in the MPO, it is not included in the Charlotte ozone maintenance area.

Table 9—Charlotte Regional Transportation Planning Organization (CRTPO)—Rocky River Rural Planning Organization (RRRPO) MVEBs in 2014 and 2026
[kg/day] *
| 2014 NOX | 2014 VOC | 2026 NOX | 2026 VOC
Base On-road Emissions | 32,679 | 18,038 | 8,870 | 8,655
Safety margin allocated to MVEB |  |  | 1,596 | 1,557
Conformity MVEB | 32,679 | 18,038 | 10,466 | 10,212
*Includes all of Mecklenburg County and a portion of Iredell and Union Counties in the maintenance area.

B. Revised MVEBs

In the July 16, 2020 SIP revision, North Carolina requested that EPA approve revisions to the MVEBs for the North Carolina portion of the Charlotte 2008 Ozone Maintenance Area by allocating a portion of the remaining safety margin to the MVEBs.6 7 The MVEB revisions are proposed to accommodate recent updates to the travel demand model impacting vehicle miles traveled, changes and uncertainty in vehicle mix assumptions, and uncertainty associated with mobile modeling in the North Carolina portion of the Charlotte Maintenance Area. The cumulative percent increases—including both the current SIP-approved percent increases as shown in Table 6, above, as well as the proposed 20 percent increase applied to all counties—to the MVEBs for the North Carolina counties in the Charlotte 2008 Ozone Maintenance Area are listed in the Table 10 below.

⁶ As with the original SIP approved on July 15, 2015, and the last revision approved on September 11, 2019, NCDAQ utilized a five-step approach for determining a factor to use to calculate the amount of safety margin to apply to the MVEBs for 2026. See Appendix A of the submittal for more detailed information.

⁷ The proposed changes to the safety margins are discussed in section III.C., below.

Table 10—Proposed Percent Increase to the 2026 Mobile Vehicle Emissions Budget
County | 2026
Cabarrus | 45
Gaston | 40
Iredell | 42
Lincoln | 42
Mecklenburg | 37
Rowan | 45
Union | 40

The following tables provide the proposed updated NOX and VOC sub-area MVEBs with the proposed safety margin allocations in kg/day for transportation conformity purposes for 2026 (2014 is only shown for illustration because no changes are being made to the MVEBs for that year). The amount of the proposed safety margin allocation includes the current SIP-approved safety margin allocations referenced in the tables above as well as the proposed percentages in values.

Table 11—Cabarrus Rowan Metropolitan Planning Organization (CRMPO) MVEBs in 2014 and 2026
[kg/day] *
| 2014 NOX | 2014 VOC | 2026 NOX | 2026 VOC
Base On-road Emissions | 11,814 | 7,173 | 3,381 | 3,371
Safety margin allocated to MVEB |  |  | 1,522 | 1,517
Conformity MVEB | 11,814 | 7,173 | 4,903 | 4,888
* Includes the portion of Cabarrus and Rowan Counties in the maintenance area. The allocation proposed in this action to the NOX MVEB is 676 kg/day and VOC is 674 kg/day.

Table 12—Gaston-Cleveland-Lincoln Metropolitan Planning Organization (GCLMPO) MVEBs in 2014 and 2026
[kg/day] *
| 2014 NOX | 2014 VOC | 2026 NOX | 2026 VOC
Base On-road Emissions | 10,079 | 5,916 | 2,681 | 2,468
Safety margin allocated to MVEB | - | - | 1,087 | 1,004
Conformity MVEB | 10,079 | 5,916 | 3,768 | 3,472
* Includes the portion of Gaston and Lincoln counties in the maintenance area. Although Cleveland County is included in the MPO, it is not included in the Charlotte ozone maintenance area. The allocation proposed in this action to the NOX MVEB is 536 kg/day and VOC is 494 kg/day.

Table 13—Charlotte Regional Transportation Planning Organization (CRTPO)—Rocky River Rural Planning Organization (RRRPO) MVEBs in 2014 and 2026
[kg/day] *
| 2014 NOX | 2014 VOC | 2026 NOX | 2026 VOC
Base On-road Emissions | 32,679 | 18,038 | 8,870 | 8,655
Safety margin allocated to MVEB |  |  | 3,371 | 3,288
Conformity MVEB | 32,679 | 18,038 | 12,241 | 11,943
* Includes all of Mecklenburg County and a portion of Iredell and Union Counties in the maintenance area. The allocation proposed in this action to the NOX MVEB is 1,775 kg/day and VOC is 1,731 kg/day.

C. Revised Safety Margin

As mentioned before, a safety margin is the difference between the attainment level of emissions from all source categories (i.e., point, area, on-road, and nonroad) and the projected level of emissions in the maintenance year from all source categories. NCDAQ has requested EPA approve allocation of some of the available safety margin to the 2026 MVEBs for transportation conformity purposes. The total level of emissions from all source categories remains equal to or less than the attainment level of emissions.

EPA is proposing to approve changes to the MVEBs that result in additional safety margin allocations to the 2026 MVEBs of 2,987 kg/day (3.29 tons/day) of NOX and 2,899 kg/day (3.19 tons/day) of VOC. This includes a proposed allocation of 676 and 674 kg/day of NOX and VOC, respectively for the Cabarrus-Rowan MPO; 536 and 494 kg/day of NOX and VOC, respectively for the Gaston-Cleveland MPO; and 1,775 and 1,731 kg/day, respectively for the Charlotte Regional TPO. Thus, if EPA's action is finalized as proposed, the cumulative safety margin emissions allocated to the 2026 MVEBs will be 5,980 kg/day (6.59 tons/day) of NOX and 5,809 kg/day (6.40 tons/day) of VOC.⁸ The proposed new safety margins available for the North Carolina portion of the Charlotte Maintenance Area are listed below.

⁸ The amount of the safety margin is a cumulative total of the current safety margin allocations (shown in Tables 5 through 7) and the proposed safety margin allocations (shown in Tables 11 through 13).

Table 14—New Safety Margins for the North Carolina Portion of the Charlotte Maintenance Area
Year | NOX (tons/day) | VOC (tons/day)
2014 | N/A | N/A
2015 | −5.99 | −2.03
2018 | −45.49 | −13.30
2022 | −63.74 | −15.84
2026 | −63.31 | −10.73

D. Adequacy of the Budgets

EPA evaluated NCDAQ's July 16, 2020 SIP revision allocating a portion of the available safety margin to the 2026 MOVES2014 based budgets in the revised 2008 8-hour ozone Charlotte maintenance plan for use in determining transportation conformity in the North Carolina portion of the Charlotte Maintenance Area. EPA is proposing this action based on our evaluation of these budgets using the adequacy criteria found in 40 CFR 93.118(e)(4) and evaluation of NCDAQ's submittal and SIP requirements. EPA is proposing to approve this SIP revision because the SIP continues to serve its intended purpose of maintenance of the 2008 8-hour ozone standard with the newly revised MOVES2014 based budgets and to deem the budgets adequate for transportation conformity purposes because they meet the adequacy criteria in the conformity rule at 40 CFR 93.118(e)(4). Specifically:

• NCDAQ's SIP was endorsed by the Governor's designee and was subject to a state public hearing ((e)(4)(i));

• Before NCDAQ submitted the SIP revision to EPA, consultation among federal, state, and local agencies occurred and full documentation was provided to EPA and EPA had no concerns ((e)(4)(ii));

• The budgets are clearly identified and precisely quantified ((e)(4)(iii));

• The budgets, when considered together with all other emissions sources, are consistent with applicable requirements for reasonable further progress, attainment, or maintenance ((e)(4)(iv));

• The budgets are consistent with and clearly related to the emissions inventory and control measures in the SIP revision submitted July 16, 2020 ((e)(4)(v)); and

• The July 16, 2020 SIP revision explains and documents changes to the previous budgets, impacts on point and area source emissions, and changes to established safety margins, and reasons for the changes (including the basis for any changes related to emission factors or vehicle miles traveled) ((e)(4)(vi)).

IV. Proposed Action

EPA is proposing to approve NCDAQ's July 16, 2020 SIP revision, requesting approval of a revision to the Charlotte 2008 8-hr Ozone Maintenance Plan in order to allocate a portion of the available safety margin to revise the 2026 NOX and VOC MVEBs. The revised MVEBs ensure continued attainment of the 2008 8-hour ozone NAAQS through the maintenance year 2026. In addition, EPA is proposing to deem the MVEBs adequate for transportation conformity purposes because the budgets meet the adequacy criteria in the conformity rule at 40 CFR 93.118(e)(4). If approved, the newly revised 2026 budgets for NOX and VOC identified in Tables 11 through 13 will be used by the MPOs in future transportation conformity determinations. The remaining safety margin is 63.31 tons/day and 13.73 tons/day for NOX and VOC, respectively. EPA has evaluated North Carolina's submittal and has determined that it meets the applicable requirements of the CAA and EPA regulations, and is consistent with EPA policy.

V. Statutory and Executive Order Reviews

Under the CAA, the Administrator is required to approve a SIP submittal that complies with the provisions of the Act and applicable federal regulations. See 42 U.S.C. 7410(k); 40 CFR 52.02(a). Thus, in reviewing SIP submissions, EPA's role is to approve state choices, provided that they meet the criteria of the CAA. Accordingly, this proposed action merely proposes to approve state law as meeting Federal requirements and does not propose to impose additional requirements beyond those imposed by state law. For that reason, these proposed actions:

• Are not significant regulatory actions subject to review by the Office of Management and Budget under Executive Orders 12866 (58 FR 51735, October 4, 1993) and 13563 (76 FR 3821, January 21, 2011);

• Do not impose information collection burdens under the provisions of the Paperwork Reduction Act (44 U.S.C. 3501 et seq.);

• Are certified as not having significant economic impacts on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, October 7, 1999);

• Are not economically significant regulatory actions based on health or safety risks subject to Executive Order 13045 (62 FR 19885, April 23, 1997);

• Are not significant regulatory actions subject to Executive Order 13211 (66 FR 28355, May 22, 2001);

• Are not subject to requirements of Section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications as specified by Executive Order 13175 (65 FR 67249, November 9, 2000) nor will it impose substantial direct costs on tribal governments or preempt tribal law.

List of Subjects in 40 CFR Part 52

Environmental protection, Air pollution control, Incorporation by reference, Intergovernmental relations, Carbon monoxide, Nitrogen dioxide, Ozone, Particulate matter, Reporting and recordkeeping requirements and Volatile organic compounds.

Authority: 42 U.S.C. 7401 et seq.

Dated: June 10, 2021.
John Blevins,
Acting Regional Administrator, Region 4.

[FR Doc. 2021-13081 Filed 6-22-21; 8:45 am]

BILLING CODE 6560-50-P